DEPARTMENT OF ENERGY

Federal Energy Regulatory Commission

[Docket No. EG02-116-000, et al.]

NRG Rockford Equipment II LLC, et al.; Electric Rate and Corporate Regulation Filings

April 11, 2002.

Take notice that the following filings have been made with the Commission. Any comments should be submitted in accordance with Standard Paragraph E at the end of this notice.

1. NRG Rockford Equipment II LLC

[Docket No. EG02-116-000]

Take notice that on April 9, 2002, NRG Rockford Equipment II LLC (NRG Rockford Equipment II) filed with the Federal Energy Regulatory Commission (Commission), an application for determination of exempt wholesale generator status pursuant to section 32 of the Public Utility Holding Company Act of 1935 (PUHCA) and part 365 of the Commission's regulations.

As more fully explained in the application, NRG Rockford Equipment II states that it is a limited liability company that will be engaged either directly or indirectly and exclusively in the business of owning and operating an electric generation facility located in Illinois.

Comment Date: May 2, 2002.

2. American Transmission Company LLC

[Docket No. ER01-1262-001]

Take notice that on April 5, 2002, American Transmission Company LLC (ATCLLC) tendered for filing an executed Generation-Transmission interconnection Agreement between ATCLLC and RockGen Energy, LLC.

ATCLLC requests an effective date of February 16, 2001.

Comment Date: April 26, 2002.

3. Midwest Independent Transmission System Operator, Inc.

[Docket No. ER01-3142-007]

Take notice that on April 4, 2002, Midwest Independent Transmission System Opertor, Inc., tendered for filing recommendations of the Independent Market Monitor (IMM) regarding market power in the Midwest ISO's market for redispatch service.

Comment Date: April 25, 2002.

4. Puget Sound Energy, Inc.

[Docket No. ER02-605-002]

Take notice that on April 5, 2002, Puget Sound Energy, Inc. (PSE), tendered for filing with the Federal Energy Regulatory Commission (Commission) a Motion to Correct Rate Schedules of its Open Access Transmission Tariff to address computational errors in its rates filed in this docket on December 26, 2001 and approved by the Commission on February 15, 2002. Puget Sound Energy, Inc., 98 FERC ¶ 61,168 (2002). PSE requests an effective date of January 1, 2002 for the above-described tariff changes.

Copies of the filing were served on the all persons on the Commission's Service list, PSE's jurisdictional customers, and the Washington State Utilities and Transportation Commission.

Comment Date: April 26, 2002.

5. Central Illinois Light Company

[Docket No. ER02-708-002]

Take notice that Central Illinois Light Company (CILCO), tendered for filing with the Federal Energy Regulatory Commission (Commission) amendments to CILCO's Ancillary Service Tariff to comply with the Commission's March 1, 2002 Order in this docket.

CILCO requested an effective date of February 1, 2002 for these amendments. Copies of the filing were served on all affected customers, the Illinois Commerce Commission, and the service list in this docket.

Comment Date: April 26, 2002.

6. PacifiCorp

[Docket No. ER02-1492-000]

Take notice that on April 5, 2002, PacifiCorp tendered for filing in accordance with 18 CFR 35 of the Federal Energy Regulatory Commission's (Commission) Rules and Regulations, a Letter Agreement dated November 15, 2001 with Sierra Pacific Power Company.

Copies of this filing were supplied to the Washington Utilities and Transportation Commission and the Public Utility Commission of Oregon.

Comment Date: April 26, 2002.

7. Virginia Electric and Power Company

[Docket No. ER02-1493-000]

Take notice that on April 5, 2002, Virginia Electric and Power Company (Dominion Virginia Power or the Company) tendered for filing the following Service Agreement for Firm Point-to-Point Transmission Service by Virginia Electric and Power Company to UBS AG, London Branch designated as Service Agreement No. 355 under the Company's FERC Electric Tariff, Second Revised Volume No. 5. Service Agreement for Non-Firm Point-to-Point Transmission Service by Virginia Electric and Power Company to UBS AG, London Branch designated as Service Agreement No. 356 under the Company's FERC Electric Tariff, Second Revised Volume No. 5.

The foregoing Service Agreements are tendered for filing under the Open Access Transmission Tariff to Eligible Purchasers effective June 7, 2000. Under the tendered Service Agreements, Dominion Virginia Power will provide point-to-point service to UBS AG, London Branch under the rates, terms and conditions of the Open Access Transmission Tariff. Dominion Virginia Power requests an effective date of March 18, 2002, as requested by the customer.

Copies of the filing were served upon UBS AG, London Branch, the Virginia State Corporation Commission, and the North Carolina Utilities Commission.

Comment Date: April 26, 2002.

8. Commonwealth Edison Company

[Docket No. ER02-1494-000]

Take notice that on April 5, 2002, Commonwealth Edison Company (ComEd) submitted for filing with the Federal Energy Regulatory Commission (Commission) an interconnection agreement between ComEd and Midwest Generation, LLC. ComEd requests an effective date for the interconnection agreement of April 6, 2002, and, accordingly, seeks waiver of the Commission's notice requirements.

ComEd states that a copy of the filing was served on Midwest Generation, LLC and the Illinois Commerce Commission.

Comment Date: April 26, 2002.

9. Virginia Electric and Power Company

[Docket No. ER02-1495-000]

Take notice that on April 5, 2002, Virginia Electric and Power Company (the Company) tendered for filing a Service Agreement for Short-Term Market Based Rate Power Sales and the Resale of Transmission Capacity with Wisvest-Connecticut, LLC.

Under the Service Agreement, the Company will provide services to the customer under the terms of the Companys Amended and Restated Market-Based Sales Tariff designated as FERC Electric Tariff (Third Revised Volume No. 4), which was accepted by order of the Commission dated August 30, 2000, in Docket No. ER00-1737-001. The Company requests an effective date of March 22, 2002, as requested by the customer requested.

Copies of the filing were served upon Wisvest-Connecticut, LLC, the Virginia State Corporation Commission and the North Carolina Utilities Commission.

Comment Date: April 26, 2002.

10. Duke Electric Transmission

[Docket No. ER02-1496-000]

Take notice that on April 5, 2002, Duke Electric Transmission (Duke), a division of Duke Energy Corporation, tendered for filing with the Federal Energy Regulatory Commission (Commission) a Service Agreement with Carolina Power & Light Company, for Firm Transmission Service under Duke's Open Access Transmission Tariff. Duke states that this filing is in accordance with part 35 of the Commission's Regulations, 18 CFR 35, and that a copy has been served on the North Carolina Utilities Commission.

Duke requests that the proposed Service Agreement be permitted to become effective on June 1, 2002.

Comment Date: April 26, 2002.

11. Duke Electric Transmission

[Docket No. ER02-1497-000]

Take notice that on April 5, 2002, Duke Electric Transmission (Duke), a division of Duke Energy Corporation, tendered for filing with the Federal Energy Regulatory Commission (Commission) a Service Agreement with Carolina Power & Light Company, for Firm Transmission Service under Duke's Open Access Transmission Tariff. Duke states that this filing is in accordance with part 35 of the Commission's Regulations, 18 CFR. 35, and that a copy has been served on the North Carolina Utilities Commission.

Duke requests that the proposed Service Agreement be permitted to become effective on July 1, 2002.

Comment Date: April 26, 2002.

12. Public Service Company of New Mexico

[Docket No. ER02-1498-000]

Take notice that on April 5, 2002, Public Service Company of New Mexico (PNM) submitted for filing an executed copy of an Agreement for Power Supply and Services (Agreement) dated March 30, 2002 (the requested effective date for the Agreement), between PNM and Colorado River Commission of Nevada (CRC). The Agreement, which begins initial service on May 14, 2002 and runs through December 31, 2004, and is being filed as Service Agreement No. 31 under PNM's FERC Electric Tariff, First Revised Volume No. 3 (Power and Energy Sales Tariff), sets forth the terms and conditions under which PNM will provide Balance of the Month, Day-Ahead, and Real-Time Operations and Scheduling services for CRC. PNM's filing is available for public inspection at its offices in Albuquerque, New Mexico.

Copies of this filing have been served upon CRC, the New Mexico Public Regulation Commission, and the New Mexico Attorney General.

Comment Date: April 26, 2002.

13. Sprague Energy Corp.

[Docket No. ER02-1499-000]

Take notice that on April 5, 2002, Sprague Energy Corp. (Sprague) tendered for filing with the Federal Energy Regulatory Commission (Commission) an application for authority to sell electricity at market-based rates under Section 205(a) of the Federal Power Act, accompanying requests for certain blanket approvals and for the waiver of certain Commission regulations. Sprague requests that the Commission accept its Rate Schedule FERC No. 1, Original Volume No. 1, for filing.

Sprague is a New Hampshire corporation that intends to engage in wholesale electric energy purchases and sales as a power marketer. Sprague also seeks authority to reassign transmission capacity and to resell firm transmission rights. Sprague is not in the business of generating or transmitting electric power.

Comment Date: April 26, 2002.

14. PJM Interconnection, L.L.C.

[Docket No. OA02-5-000]

Take notice that on April 4, 2002, PJM Interconnection, L.L.C. (PJM) tendered for filing with the Federal Energy Regulatory Commission (Commission), amended FERC Order No. 889 Standards of Conduct (Code of Conduct). PJM proposed to amend its Code of Conduct to specify that PJM employees, PJM officers, and members of the PJM Board of Managers are required annually to execute the Code of Conduct and Standard of Business Ethics Compliance Agreement, and to make other minor stylistic changes

PJM proposed to make its amended Code of Conduct effective on April 5, 2002.

Copies of this filing have been served on all PJM members and each state utility regulatory commission in the PJM control area.

Comment Date: May 6, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-9396 Filed 4-17-02; 8:45 am]

BILLING CODE 6717-01-P